DEPARTMENT OF COMMERCE

International Trade Administration

[A-489-829, A-583-859, A-588-876, C-489-830]

Steel Concrete Reinforcing Bar From the Republic of Turkey, Taiwan, and Japan: Continuation of Antidumping and Countervailing Duty Orders

AGENCY: Enforcement and Compliance, International Trade Administration, Department of Commerce.

SUMMARY: The U.S. Department of Commerce (Commerce) and the U.S. International Trade Commission (ITC) have determined that revocation of the antidumping duty (AD) orders on steel concrete reinforcing bar (rebar) from the Republic of Turkey (Turkey), Taiwan, and Japan, and the countervailing duty (CVD) order on rebar from Turkey would likely lead to continuation or recurrence of dumping as well as net countervailable subsidies and materials injury to an industry in the United States. Therefore, Commerce is publishing a notice of continuation of these AD and CVD orders.

DATES: Applicable February 10, 2023.

FOR FURTHER INFORMATION CONTACT: Jose Rivera, AD/CVD Operations, Office VII, Enforcement and Compliance, International Trade Administration, U.S. Department of Commerce, 1401 Constitution Avenue NW, Washington, DC 20230; telephone: (202) 482-0842.

SUPPLEMENTARY INFORMATION:

Background

On June 1, 2022, Commerce published the notice of initiation of the sunset reviews of the AD and CVD orders.¹ Commerce received a notice of intent to participate from the Rebar Trade Action Coalition (RTAC) and its individual members, Nucor Corporation, Gerdau Ameristeel US Inc., Commercial Metals Company, Steel Dynamics, Inc., and Byer Steel (collectively, domestic interested party) within the deadline specified in 19 CFR 351.218(d)(1)(i).²

¹ See Initiation of Five-Year (Sunset) Reviews, 87 FR 33123 (June 1, 2022); see also Steel Concrete Reinforcing Bar from the Republic of Turkey and Japan: Amended Final Affirmative Antidumping Duty Determination for the Republic of Turkey and Antidumping Duty Orders, 82 FR 32532 (July 14, 2017); Steel Concrete Reinforcing Bar from the Republic of Turkey: Amended Final Affirmative Countervailing Duty Determination and Countervailing Duty Order, 82 FR 32531 (July 14, 2017); Steel Concrete Reinforcing Bar from Taiwan: Antidumping Duty Order, 82 FR 45809 (October 2, 2017) (collectively, Orders).

² See RTAC's Letters, “Notice of Intent to Participate—Taiwan,” “Notice of Intent to Participate—Turkey,” “Notice of Intent to Participate—Japan,” all dated June 15, 2022, and “Notice of Intent to Participate in CVD Sunset Review,” dated June 15, 2022.

On June 30, 2022, Commerce received a substantive response from the domestic interested party within the 30-day deadline specified in 19 CFR 351.218(d)(3)(i).³ We also received a substantive response from the Government of Turkey (GOT).⁴ However, we did not receive a substantive response from any other respondent interested party in this proceeding, and no party requested a hearing.

³ See RTAC's Letters, “Substantive Response to Notice of CVD Sunset Review Initiation,” dated June 30, 2022 (RTAC's CVD Substantive Response); “Substantive Response of Domestic Producers to Notice of Initiation,” dated June 30, 2022 (Substantive Response Turkey); “Substantive Response of Domestic Producers to Notice of Initiation,” dated June 30, 2022 (Substantive Response Taiwan); and “Substantive Response of Domestic Producers to Notice of Initiation,” dated June 30, 2022 (Substantive Response Japan).

⁴ See GOT's Letter, “Substantive Response of the Government of the Republic of Türkiye in the First Sunset Review of the Countervailing Duly Order on Steel Concrete Reinforcing Bar,” dated June 30, 2022 (GOT's Substantive Response).

On July 21, 2022, Commerce notified the ITC that it did not receive adequate substantive responses from respondent interested parties.⁵ As a result, pursuant to section 751(c)(3)(B) of the Tariff Act of 1930, as amended (the Act) and 19 CFR 351.218(e)(1)(ii)(C)(2), Commerce conducted expedited (120-day) sunset reviews of the Orders.

⁵ See Commerce's Letter, “Sunset Reviews Initiated on June 1, 2022,” dated July 21, 2022.

As a result of its reviews, Commerce determined that revocation of the Orders would likely lead to the continuation or recurrence of dumping and subsidization. Therefore, Commerce notified the ITC of the magnitude of the margins and subsidy rates likely to prevail should the Orders be revoked, pursuant to sections 751(c), and 752(b) and (c) of the Act.⁶ On January 30, 2023, the ITC published its determination, pursuant to sections 751(c) and 752(a) of the Act, that revocation of the Orders would likely lead to continuation or recurrence of material injury to an industry in the United States within a reasonably foreseeable time.⁷

⁶ See Steel Concrete Reinforcing Bar from the Republic of Turkey, Taiwan, and Japan; Final Results of First Expedited Sunset Reviews of the Antidumping Duty Orders, 87 FR 60120 (October 4, 2022); and Steel Concrete Reinforcing Bar from the Republic of Turkey: Final Results of the Expedited Five-Year Sunset Review of the Countervailing Duty Order, 87 FR 60376 (October 5, 2022).

⁷ See Steel Concrete Reinforcing Bar from Japan, Taiwan, and Turkey Investigation Nos. 701-TA-564 and 731- TA-1338-1340 (Review), 88 FR 5918 (January 30, 2023).

Scope of the Orders

The merchandise subject to these Orders is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject countries or a third country, including but not limited to cutting, grinding, galvanizing, painting, coating, or any other processing that would not otherwise remove the merchandise from the scope of the Orders if performed in the country of manufacture of the rebar.

Specifically excluded are plain rounds (i.e., nondeformed or smooth rebar). Also excluded from the scope is deformed steel wire meeting ASTM A1064/A1064M with no bar markings (e.g., mill mark, size, or grade) and without being subject to an elongation test.

At the time of the filing of the petition, there was an existing CVD order on steel reinforcing bar from the Republic of Turkey. See Steel Concrete Reinforcing Bar from the Republic of Turkey, 79 FR 65926 (November 6, 2014) (2014 Turkey CVD Order). The scope of this CVD Order with regard to rebar from Turkey covers only rebar produced and/or exported by those companies that are excluded from the 2014 Turkey CVD Order. At the time of the issuance of the 2014 Turkey CVD Order, Habas was the only excluded Turkish rebar producer or exporter.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

Although the HTSUS subheadings are provided for convenience and customs purposes, the written description of the scope of the Orders is dispositive.

Continuation of the Orders

As a result of the determinations by Commerce and the ITC that revocation of the Orders would likely lead to continuation or recurrence of dumping, countervailable subsidies, and material injury to an industry in the United States, pursuant to sections 751(c)(1) and 751(d)(2) of the Act and 19 CFR 351.218(a), Commerce hereby orders the continuation of the AD orders on rebar from Turkey, Taiwan, and Japan, and the CVD order on rebar from Turkey. U.S. Customs and Border Protection will continue to collect AD and CVD cash deposits at the rates in effect at the time of entry for all imports of subject merchandise.

The effective date of continuation of these Orders will be the date of publication in the Federal Register of this notice of continuation. Pursuant to section 751(c)(2) of the Act, Commerce intends to initiate the next five-year review of the Orders not later than 30 days prior to the fifth anniversary of the effective date of continuation.

Notification to Interested Parties

These five-year (sunset) reviews and this notice are in accordance with sections 751(c) and 751(d)(2) of the Act and published in accordance with section 777(i) of the Act, and 19 CFR 351.218(f)(4).

Dated: February 6, 2023.
Lisa W. Wang,
Assistant Secretary for Enforcement and Compliance.

[FR Doc. 2023-02853 Filed 2-9-23; 8:45 am]

BILLING CODE 3510-DS-P